NATIONAL SCIENCE FOUNDATION

Smart Cities and Communities Federal Strategic Plan: Exploring Innovation Together

AGENCY: The National Coordination Office (NCO) for Networking and Information Technology Research and Development (NITRD), National Science Foundation.

ACTION: Request for public comment.

FOR FURTHER INFORMATION CONTACT: Ernest Lucier at (703) 292-4873 or lucier@NITRD.gov. Individuals who use a telecommunications device for the deaf (TDD) may call the Federal Information Relay Service (FIRS) at 1-800-877-8339 between 8 a.m. and 8 p.m., Eastern time, Monday through Friday.

DATES: January 9, 2017.

SUMMARY: With this notice, the National Coordination Office for Networking and Information Technology Research and Development (NITRD) requests comments from the public regarding the draft Smart Cities and Communities Federal Strategic Plan: Exploring Innovation Together. The draft Strategic Plan is posted at: https://www.nitrd.gov/drafts/SCC_StrategicPlan_Draft.pdf.

ADDRESS AND SUBMISSION INFORMATION: You may submit comments by any of the following methods:

• Email: SCCTF@nitrd.gov, comments submitted by email should be machine-readable and should not be copy-protected;

• Fax: (703) 292-9097, Attn: Smart Cities and Communities; or

• Mail: Attn: Smart Cities and Communities, NCO, Suite II-405, 4201 Wilson Blvd., Arlington, VA 22230.

The deadline for submission under this RFC is February 28, 2017. Submissions must not exceed 3 pages in 12 point or larger font, with a page number provided on each page. Responders should include the name of the person(s) or organization(s) filing the comment.

Responses to this RFC may be posted online at http://www.nitrd.gov. Therefore, the Smart Cities and Communities Task Force requests that no business proprietary information or copyrighted information be submitted in response to this RFC.

In accordance with FAR 15.202(3), responses to this notice are not offers and cannot be accepted by the Government to form a binding contract. Responders are solely responsible for all expenses associated with responding to this RFC.

SUPPLEMENTARY INFORMATION:

Summary of Draft Strategy

Motivated by a vision of ubiquitous, smart infrastructure, systems, and services, many cities and communities view advances in networking and information technology as a way to increase efficiency, reduce costs, and improve quality of life for their residents. They seek to become “smart cities” and “smart communities” by embedding new digital technologies into their infrastructure, systems, and services to enhance existing, and develop new, city/community resources. Smart city/community solutions are intended to enable new capabilities and opportunities—all in the face of limited budgets. The possible applications are numerous: Citizen services, smart grids, intelligent transportation systems, and remote healthcare, to name a few.

Although information technology promises enormous public benefits, it also introduces new challenges. These challenges range from technical to ethical, legal, and social, including cybersecurity, data sharing and analysis, privacy, public health and well-being, workforce and education needs, and cultural and socioeconomic considerations. Addressing these challenges requires new forms of cross-sector and cross-government collaboration, experimentation, knowledge sharing, and alignment.

This strategic plan offers a high-level framework to guide and coordinate smart city/community-related Federal initiatives, with an emphasis on local government and stakeholder engagement. Coordinating efforts across Federal agencies should help accelerate the development of smart city/community solutions that maximize the value of investments and optimize benefits to residents.

The Central Goals that motivate this strategy are to:

• Understand local needs and local goals;

• Accelerate smart city/community innovation and infrastructure development;

• Facilitate cross-sector collaboration and bridge existing silos;

• Boost exports and promote U.S. global leadership; and

• Focus on people-centered solutions that support job growth and economic competitiveness.

A key objective of this plan is to identify priorities for federally funded research and development (R&D) as well as capacity-building to help transform our cities and communities and improve our standards of living. To do so, the Strategic Priorities identified herein are to:

• Accelerate fundamental R&D for smart cities/communities;

• Facilitate secure and resilient infrastructure, systems, and services for smart cities/communities;

• Foster smart cities/communities through data and knowledge sharing, best practices, and collaboration; and

• Enable evaluation of progress and long-term growth of smart cities/communities.

This plan envisions Federal agencies working together and engaging with local leaders, academia, industry, civil society, and other key stakeholders. The aim is to accelerate the development and implementation of new discoveries and innovations that in turn enable cities and communities to achieve local goals and address their most important challenges. Therefore, the Next Steps recommended in this strategic plan include, through the Smart Cities and Communities Task Force, promoting interagency coordination and collaboration; engaging cities/communities to collect feedback on and enable continued refinement of this strategic plan and future efforts; and developing a roadmap for specific Federal actions to execute the Strategic Priorities presented here.

Questions for Commenters

The Smart Cities and Communities Task Force invites comments on the draft strategic plan. In particular, commenters should consider the following questions as they develop their responses:

• Are the central goals appropriate and/or are there other goals that should be considered?

• Are the strategic priorities appropriate and/or are there other priorities that should be considered?

• Are the next steps identified in the draft plan appropriate and/or are there others that should be considered?

Submitted by the National Science Foundation for the National Coordination Office (NCO) for Networking and Information Technology Research and Development (NITRD) on January 9, 2017.

Suzanne H. Plimpton,
Reports Clearance Officer, National Science Foundation.

[FR Doc. 2017-00501 Filed 1-11-17; 8:45 am]

BILLING CODE 7555-01-P